DEPARTMENT OF ENERGY

Federal Energy Regulatory Commission

Combined Notice of Filings #1

Take notice that the Commission received the following electric rate filings:

Docket Numbers: ER10-2639-003; ER11-2200-003; ER12-1716-002.

Applicants: Noble Americas Gas & Power Corp., Noble Americas Energy Solutions LLC, Your Energy Holdings, LLC.

Description: Notice of Change in Status of Noble Americas Gas & Power Corp., et al.

Filed Date: 1/15/14.

Accession Number: 20140115-5195.

Comments Due: 5 p.m. ET 2/5/14.

Docket Numbers: ER13-897-002.

Applicants: Louisville Gas and Electric Company.

Description: Order1000 2nd Regional Compliance Filing to be effective 6/1/2014.

Filed Date: 1/16/14.

Accession Number: 20140116-5000.

Comments Due: 5 p.m. ET 2/13/14.

Docket Numbers: ER14-1003-000.

Applicants: Berry Petroleum Company.

Description: Notice of Succession to be effective 12/16/2013.

Filed Date: 1/15/14.

Accession Number: 20140115-5144.

Comments Due: 5 p.m. ET 2/5/14.

Docket Numbers: ER14-1004-000.

Applicants: California Independent System Operator Corporation.

Description: 2014-01-15_DeficiencyResponse to be effective 4/1/2014.

Filed Date: 1/15/14.

Accession Number: 20140115-5171.

Comments Due: 5 p.m. ET 2/5/14.

Docket Numbers: ER14-1005-000.

Applicants: PJM Interconnection, L.L.C.

Description: PJM Interconnection, L.L.C. submits Queue Position S36; Original Service Agreement No. 3734 to be effective 12/19/2013.

Filed Date: 1/16/14.

Accession Number: 20140116-5061.

Comments Due: 5 p.m. ET 2/6/14.

Docket Numbers: ER14-1006-000.

Applicants: El Paso Electric Company.

Description: El Paso Electric Company submits Service Agreement No. 286 PNM Settlement PTP Rollover to be effective 1/1/2014.

Filed Date: 1/16/14.

Accession Number: 20140116-5078.

Comments Due: 5 p.m. ET 2/6/14.

Docket Numbers: ER14-1007-000.

Applicants: Trans-Allegheny Interstate Line Company, Pennsylvania Electric Company, PJM Interconnection, L.L.C.

Description: Trans-Allegheny Interstate Line Company submits FirstEnergy submits on behalf of TrAILCO & Penelec Service Agmt No. 3690 to be effective 2/10/2014.

Filed Date: 1/16/14.

Accession Number: 20140116-5079.

Comments Due: 5 p.m. ET 2/6/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 16, 2014.
Nathaniel J. Davis, Sr.,
Deputy Secretary.

[FR Doc. 2014-01493 Filed 1-27-14; 8:45 am]

BILLING CODE 6717-01-P